SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before November 7, 2011.

ADDRESSES: Send all comments regarding whether this information collection is necessary for the proper performance of the function of the agency, whether the burden estimates are accurate, and if there are ways to minimize the estimated burden and enhance the quality of the collection, to Cynthia Pitts, Director, Disaster Administrative Service, Small Business Administration, 409 3rd Street, 6th Floor, Washington, DC 20416.

FOR FURTHER INFORMATION CONTACT: Cynthia Pitts, Disaster Administrative Service, 202-205-7570, Cynthia/pitts@sba.gov; Curtis B. Rich, Management Analyst, 202-205-7030, curtis.rich@sba.gov.

SUPPLEMENTARY INFORMATION: Before disaster loan assistance can be provided, the Governor of the affected State must make a written request which identifies incident, time, place, and that the criteria has been met for a disaster declaration to be made by SBA.

Title: “Governor's Request for Disaster Declaration.”

Description of Respondents: Presidential Declared Disaster.

Form Number: N/A.

Annual Responses: 60.

Annual Burden: 1,200.

SUPPLEMENTARY INFORMATION: Application for benefits (loan) used to determine eligibility and creditworthiness of individual victims who seek Federal assistance in a declared disaster. Respondents are disaster victims seeking disaster assistance.

Title: “Disaster Home Loan Application.”

Description of Respondents: Applicants requesting Disaster Home Loan.

Form Number: 5C.

Annual Responses: 46,462.

Annual Burden: 69,693.

ADDRESSES: Send all comments regarding whether this information collection is necessary for the proper performance of the function of the agency, whether the burden estimates are accurate, and if there are ways to minimize the estimated burden and enhance the quality of the collection, to Felicia Smith, Supervisory Financial Analyst, Office of Credit Risk Management, Small Business Administration, 409 3rd Street, 8th Floor, Washington, DC 20416.

FOR FURTHER INFORMATION CONTACT: Felicia Smith, Supervisory Financial Analyst, 202-205-7522, Felicia.smith@sba.gov; Curtis B. Rich, Management Analyst, 202-205-7030, curtis.rich@sba.gov

SUPPLEMENTARY INFORMATION: The Small Business Administration (SBA) is authorized under the Small Business Act to conduct off-site review and monitoring of SBA Lenders, Intermediaries and Non-Technical Assistance Providers (NTAPs). They will be required to prepare self-assessments and submit corrective action plans and other review/exam related information to facilitate SBA's performance of its oversight and monitoring functions. These plans will inform SBA how the lender intends to address deficiencies identified during the review and examination process and the time line for implementing the plan including the target deadline.

Title: “SBA Lender Microloan Intermediary and NTAP Reporting Requirements.”

Description of Respondents: SBA Microloan Lenders.

Form Number: N/A.

Annual Responses: 170.

Annual Burden: 1,700.

Jacqueline White,
Chief, Administrative Information Branch.

[FR Doc. 2011-22905 Filed 9-7-11; 8:45 am]

BILLING CODE P